DEPARTMENT OF ENERGY

Federal Energy Regulatory Commission

Combined Notice of Filings #1

Take notice that the Commission received the following exempt wholesale generator filings:

Docket Numbers: EG25-221-000.

Applicants: Big Sampson Wind Project, LLC, Bracewell LLP.

Description: Big Sampson Wind Project, LLC submits Notice of Self-Certification of Exempt Wholesale Generator Status.

Filed Date: 3/11/25.

Accession Number: 20250311-5301.

Comment Date: 5 p.m. ET 4/1/25.

Docket Numbers: EG25-222-000.

Applicants: I-eye Storage LLC.

Description: I-eye Storage LLC submits Notice of Self-Certification of Exempt Wholesale Generator Status.

Filed Date: 3/12/25.

Accession Number: 20250312-5117.

Comment Date: 5 p.m. ET 4/2/25.

Take notice that the Commission received the following electric rate filings:

Docket Numbers: ER20-721-002; ER21-2140-002; ER20-720-002; ER20-886-002; ER23-1812-002; ER24-966-003.

Applicants: Eleven Mile Solar Center, LLC, Sunflower Energy Center, LLC, Orsted US Trading LLC, Plum Creek Wind, LLC, Haystack Wind Project, LLC, Willow Creek Wind Power LLC.

Description: Supplement to 01/10/2025, Triennial Market Power Analysis for Southwest Power Pool Inc. Region of Plum Creek Wind, LLC, et al.

Filed Date: 3/11/25.

Accession Number: 20250311-5307.

Comment Date: 5 p.m. ET 4/1/25.

Docket Numbers: ER20-2101-004; ER23-2407-004.

Applicants: Strauss Wind, LLC, Fern Solar LLC.

Description: Notice of Non-Material Change in Status of Fern Solar LLC, et al.

Filed Date: 3/11/25.

Accession Number: 20250311-5303.

Comment Date: 5 p.m. ET 4/1/25.

Docket Numbers: ER24-343-000.

Applicants: Nestlewood Solar I LLC.

Description: Supplement to 07/30/2024, Notice of Non-Material Change in Status of Nestlewood Solar I LLC.

Filed Date: 3/11/25.

Accession Number: 20250311-5302.

Comment Date: 5 p.m. ET 4/1/25.

Docket Numbers: ER24-1284-001; ER24-1285-001.

Applicants: SR Toombs Lessee, LLC, SR Toombs, LLC.

Description: Notice of Non-Material Change in Status of SR Toombs, LLC et al.

Filed Date: 3/11/25.

Accession Number: 20250311-5308.

Comment Date: 5 p.m. ET 4/1/25.

Docket Numbers: ER25-823-001.

Applicants: Painter Energy Storage, LLC.

Description: Tariff Amendment: Amendment to 1 to be effective 1/15/2025.

Filed Date: 3/11/25.

Accession Number: 20250311-5283.

Comment Date: 5 p.m. ET 3/21/25.

Docket Numbers: ER25-1313-001.

Applicants: Tibbits Energy Storage LLC.

Description: Tariff Amendment: Amendment to 1 to be effective 4/30/2025.

Filed Date: 3/11/25.

Accession Number: 20250311-5291.

Comment Date: 5 p.m. ET 4/1/25.

Docket Numbers: ER25-1498-000.

Applicants: Arkansas River Power Authority.

Description: Petition for Limited Waiver of Arkansas River Power Authority.

Filed Date: 2/28/25.

Accession Number: 20250228-5487.

Comment Date: 5 p.m. ET 3/21/25.

Docket Numbers: ER25-1554-000.

Applicants: Alabama Power Company, Georgia Power Company, Mississippi Power Company.

Description: 205(d) Rate Filing: Alabama Power Company submits tariff filing per 35.13(a)(2)(iii: PowerSouth NITSA Amendment (Add Sweetnin & Cropwell DPs; removed New London DP) to be effective 2/11/2025.

Filed Date: 3/11/25.

Accession Number: 20250311-5266.

Comment Date: 5 p.m. ET 4/1/25.

Docket Numbers: ER25-1555-000.

Applicants: PJM Interconnection, L.L.C.

Description: Tariff Amendment: Notice of Cancellation GIA & CSA, SA Nos. 7400 & 7401; Project ID AF1-164 to be effective 3/29/2025.

Filed Date: 3/11/25.

Accession Number: 20250311-5280.

Comment Date: 5 p.m. ET 4/1/25.

Docket Numbers: ER25-1560-000.

Applicants: Southwestern Public Service Company, Southwest Power Pool, Inc.

Description: 205(d) Rate Filing: Southwestern Public Service Company submits tariff filing per 35.13(a)(2)(iii: SPS Formula Rate Revisions to Incorporate Changes Accepted in ER25-346 to be effective 1/1/2025.

Filed Date: 3/12/25.

Accession Number: 20250312-5044.

Comment Date: 5 p.m. ET 4/2/25.

Docket Numbers: ER25-1562-000.

Applicants: PJM Interconnection, L.L.C.

Description: 205(d) Rate Filing: Amendment to WMPA, SA No. 6580; Queue No. AE2-212 (amend) to be effective 5/12/2025.

Filed Date: 3/12/25.

Accession Number: 20250312-5047.

Comment Date: 5 p.m. ET 4/2/25.

Docket Numbers: ER25-1563-000.

Applicants: PJM Interconnection, L.L.C.

Description: 205(d) Rate Filing: Amendment to WMPA, SA No. 5669; Queue No. AF1-291 (amend) to be effective 5/12/2025.

Filed Date: 3/12/25.

Accession Number: 20250312-5049.

Comment Date: 5 p.m. ET 4/2/25.

Docket Numbers: ER25-1564-000.

Applicants: PJM Interconnection, L.L.C.

Description: 205(d) Rate Filing: Amendment to GIA, Service Agreement No. 7247; Queue No. AF1-228 to be effective 5/12/2025.

Filed Date: 3/12/25.

Accession Number: 20250312-5058.

Comment Date: 5 p.m. ET 4/2/25.

Docket Numbers: ER25-1565-000.

Applicants: Midcontinent Independent System Operator, Inc.

Description: 205(d) Rate Filing: 2025-03-12_SA 4137 Duke-Ratts 2-Ratts 1 MPFCA 2nd Rev (J1027 J1028 J1189) to be effective 5/12/2025.

Filed Date: 3/12/25.

Accession Number: 20250312-5068.

Comment Date: 5 p.m. ET 4/2/25.

Docket Numbers: ER25-1566-000.

Applicants: PJM Interconnection, L.L.C.

Description: 205(d) Rate Filing: Original GIA, SA No. 7588; Project Identifier No. AE2-220 to be effective 2/13/2025.

Filed Date: 3/12/25.

Accession Number: 20250312-5072.

Comment Date: 5 p.m. ET 4/2/25.

Docket Numbers: ER25-1571-000.

Applicants: Nicholas County Solar Project, LLC.

Description: 205(d) Rate Filing: Nicholas County Solar Project, LLC—Co-Tenancy and Shared Facilities Agreement to be effective 3/13/2025.

Filed Date: 3/12/25.

Accession Number: 20250312-5113.

Comment Date: 5 p.m. ET 4/2/25.

Docket Numbers: ER25-1572-000.

Applicants: Deep Lake Energy Center, LLC.

Description: 205(d) Rate Filing: Certificate of Concurrence and Request for Waiver and Blanket Approval to be effective 3/13/2025.

Filed Date: 3/12/25.

Accession Number: 20250312-5115.

Comment Date: 5 p.m. ET 4/2/25.

Take notice that the Commission received the following electric securities filings:

Docket Numbers: ES25-35-000.

Applicants: Startrans IO, L.L.C.

Description: Application Under Section 204 of the Federal Power Act for Authorization to Issue Securities of Startrans IO, L.L.C.

Filed Date: 3/11/25.

Accession Number: 20250311-5309.

Comment Date: 5 p.m. ET 4/1/25.

Take notice that the Commission received the following PURPA 210(m)(3) filings:

Docket Numbers: QM25-2-000.

Applicants: Johnson County Rural Electric Membership Corporation.

Description: Application of Johnson County Rural Electric Membership Corporation to Terminate Its Mandatory Purchase Obligation under the Public Utility Regulatory Policies Act of 1978.

Filed Date: 3/11/25.

Accession Number: 20250311-5298.

Comment Date: 5 p.m. ET 4/8/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 12, 2025.
Carlos D. Clay,
Deputy Secretary.

[FR Doc. 2025-04447 Filed 3-18-25; 8:45 am]

BILLING CODE 6717-01-P